DEPARTMENT OF JUSTICE

Bureau of Alcohol, Tobacco, Firearms, and Explosives

27 CFR Parts 447, 478, 479, and 555

[Docket No. ATF 11F; AG Order No. 3006-2008]

RIN 1140-AA32

Technical Amendments to Regulations in Title 27, Chapter II (2006R-6P)

AGENCY: Bureau of Alcohol, Tobacco, Firearms, and Explosives (ATF), Department of Justice.

ACTION: Final rule.

SUMMARY: This final rule makes technical amendments and corrects typographical errors in parts 447, 478, 479, and 555 of title 27, Code of Federal Regulations (CFR). All changes are to provide clarity and uniformity throughout these regulations.

DATES: This rule is effective October 2, 2008.

FOR FURTHER INFORMATION CONTACT: Elizabeth A. Gillis, Enforcement Programs and Services, Bureau of Alcohol, Tobacco, Firearms, and Explosives, U.S. Department of Justice, 99 New York Avenue, NE., Washington, DC 20226; telephone (202) 648-7093.

SUPPLEMENTARY INFORMATION:

Background

The Bureau of Alcohol, Tobacco, Firearms, and Explosives (ATF) administers regulations published in title 27, chapter II, Code of Federal Regulations. These regulations are updated April 1 of each year to incorporate new or revised regulations that were published by ATF in the Federal Register during the preceding year. ATF identified several amendments that are needed to provide clarity and uniformity to the regulations it administers in 27 CFR.

These amendments do not make any substantive changes and are only intended to improve the clarity of title 27, chapter II.

The following sections are being amended to reflect the current control numbers issued by the Office of Management and Budget (OMB): Sections 447.32-447.34, 447.42, 447.45, 447.57, 478.25a, 478.39a-478.40a, 478.44, 478.45, 478.52, 478.92, 478.94-478.96, 478.102, 478.112-478.114, 478.119-478.124, 478.125-478.126a, 478.131-478.133, 478.150, 479.102, 479.131, 555.109, 555.121-555.124, 555.184, and 555.201.

The following sections are being amended to replace “Chief, National Licensing Center” with “Chief, Federal Firearms Licensing Center”: Sections 478.11, 478.41, 478.45, 478.47, 478.48, 478.52-478.54, 478.56, 478.57, 478.60, 478.95, and 478.127.

Sections 447.35 and 447.58 are being amended to reflect ATF's current Web site address.

The following sections are being amended to reflect the current address for ATF's Distribution Center and Out-of-Business Records Center: Sections 478.21, 478.124, 478.127, 479.21, 555.21, 555.23, and 555.128.

Section 447.32 is being amended to reflect the current address for registration refunds regarding the importation of articles enumerated on the U.S. Munitions Import List.

Sections 478.25a and 478.39a are being amended to reflect current telephone numbers.

Sections 478.44, 478.45, and 478.47 are being amended to remove all references to obsolete forms.

Sections 478.44 and 478.95 are being amended to reflect a nomenclature change.

Section 478.96 is being amended to correct a typographical error.

Section 478.125(f) is being amended to remove a repetitive sentence.

Sections 478.151 and 555.109 are being amended to include the control numbers approved by OMB.

Section 555.181 is being amended to remove the OMB control number, since the collection of information in this section no longer applies.

How This Document Complies With the Federal Administrative Requirements for Rulemaking

A. Executive Order 12866

This rule has been drafted and reviewed in accordance with Executive Order 12866, Regulatory Planning and Review, section 1(b), Principles of Regulation. The Department has determined that this rule is not a “significant regulatory action” under Executive Order 12866, section 3(f), and accordingly this rule has not been reviewed by the Office of Management and Budget.

B. Executive Order 13132

This regulation will not have substantial direct effects on the States, on the relationship between the federal Government and the States, or on the distribution of power and responsibilities among the various levels of government. Therefore, in accordance with section 6 of Executive Order 13132, the Attorney General has determined that this regulation does not have sufficient federalism implications to warrant the preparation of a federalism summary impact statement.

C. Executive Order 12988

This regulation meets the applicable standards set forth in sections 3(a) and 3(b)(2) of Executive Order 12988.

D. Administrative Procedure Act

This rule relates to a matter of agency management or personnel and is a rule of agency organization, procedure, and practice. As such, this rule is exempt from the usual requirements of prior notice and comment and a 30-day delay in the effective date. See 5 U.S.C. 553(a)(2), (b)(3)(A), (d)(3). Moreover, the Department finds good cause for exempting the rule from those requirements. Because this final rule merely makes technical corrections to improve the clarity of the regulations, the Department finds it unnecessary to publish this rule for public notice and comment. Similarly, because delaying the effective date of this rule would serve no purpose, the Department also finds good cause to make this rule effective upon publication.

E. Regulatory Flexibility Act

The provisions of the Regulatory Flexibility Act relating to an initial and final regulatory flexibility analysis are not applicable to this rule because the agency was not required to publish a general notice of proposed rulemaking under 5 U.S.C. 553 or any other law.

F. Small Business Regulatory Enforcement Fairness Act of 1996

This rule is not a major rule as defined by section 251 of the Small Business Regulatory Enforcement Fairness Act of 1996, 5 U.S.C. 804. This rule will not result in an annual effect on the economy of $100 million or more; a major increase in costs or prices; or significant adverse effects on competition, employment, investment, productivity, innovation, or on the ability of United States-based companies to compete with foreign-based companies in domestic and export markets.

G. Unfunded Mandates Reform Act of 1995

This rule will not result in the expenditure by State, local, and tribal governments, in the aggregate, or by the private sector of $100 million or more in any one year, and it will not significantly or uniquely affect small governments. Therefore, no actions were deemed necessary under the provisions of the Unfunded Mandates Reform Act of 1995.

H. Paperwork Reduction Act of 1995

This final rule does not impose any new reporting or recordkeeping requirements under the Paperwork Reduction Act.

I. Congressional Review Act

This action pertains to agency organization, procedure, or practice, and does not substantially affect the rights or obligations of non-agency parties and, accordingly, is not a “rule” as that term is used by the Congressional Review Act (Subtitle E of the Small Business Regulatory Enforcement Fairness Act of 1996). Therefore, the reporting requirement of 5 U.S.C. 801 does not apply.

Drafting Information

The author of this document is Elizabeth Gillis; Enforcement Programs and Services; Bureau of Alcohol, Tobacco, Firearms, and Explosives.

List of Subjects

27 CFR Part 447

Administrative practice and procedure, Arms control, Arms and munitions, Authority delegation, Chemicals, Customs duties and inspection, Imports, Penalties, Reporting and recordkeeping requirements, Scientific equipment, Seizures and forfeitures.

27 CFR Part 478

Administrative practice and procedure, Arms and munitions, Authority delegations, Customs duties and inspection, Domestic violence, Exports, Imports, Law enforcement personnel, Military personnel, Nonimmigrant aliens, Penalties, Reporting requirements, Research, Seizures and forfeitures, Transportation.

27 CFR Part 479

Administrative practice and procedure, Arms and munitions, Authority delegations, Customs duties and inspection, Exports, Imports, Military personnel, Penalties, Reporting requirements, Research, Seizures and forfeitures, Transportation.

27 CFR Part 555

Administrative practice and procedure, Authority delegations, Customs duties and inspection, Explosives, Hazardous materials, Imports, Penalties, Reporting and recordkeeping requirements, Safety, Security measures, Seizures and forfeitures, Transportation, Warehouses.

Authority and Issuance

Accordingly, for the reasons discussed in the preamble, 27 CFR parts 447, 478, 479, and 555 are amended as follows:

PART 447—IMPORTATION OF ARMS, AMMUNITION AND IMPLEMENTS OF WAR

1. The authority citation for 27 CFR Part 447 continues to read as follows:

Authority: 22 U.S.C. 2778.

2. Section 447.32 is amended by removing “Washington, DC 20226,” in paragraph (c) and adding in its place “Martinsburg, WV 25405,” and by removing “1512-0021” in the parenthetical text at the end of the section and adding in its place “1140-0009”.

3. Section 447.33 is amended by removing “1512-0021” in the parenthetical text at the end of the section and adding in its place “1140-0009”.

4. Section 447.34 is amended by removing “1512-0387” in the parenthetical text at the end of the section and adding in its place “1140-0032”.

5. Section 447.35(b) is amended by removing “http://www.atf.treas.gov/” and adding in its place “http://www.atf.gov/”.

6. Section 447.42 is amended by removing “1512-0017” in the parenthetical text at the end of the section and adding in its place “1140-0005”.

7. Section 447.45 is amended by removing “1512-0019” in the parenthetical text at the end of the section and adding in its place “1140-0007”.

8. Section 447.57 is amended by removing “1512-0017” in the parenthetical text at the end of the section and adding in its place “1140-0005”.

9. Section 447.58 is amended by removing “http://www.atf.treas.gov/” and adding in its place “http://www.atf.gov/”.

PART 478—COMMERCE IN FIREARMS AND AMMUNITION

10. The authority citation for 27 CFR Part 478 continues to read as follows:

Authority: 5 U.S.C. 552(a); 18 U.S.C. 847, 921-930; 44 U.S.C. 3504(h).

11. Section 478.11 is amended by removing the term “Chief, National Licensing Center” and adding in its place “Chief, Federal Firearms Licensing Center (FFLC)”.

12. Section 478.21(b) is amended by removing “7943 Angus Court, Springfield, Virginia 22153” and adding in its place “7664 K Fullerton Road, Springfield, Virginia 22150”.

13. Section 478.25a is amended by removing “1-800-788-7132” in the last sentence and adding in its place “1-800-788-7133”, and by removing “1512-0387” in the parenthetical text at the end of the section and adding in its place “1140-0032”.

14. Section 478.39a is amended by removing “1-800-800-3855” in the second sentence and adding in its place “1-888-930-9275”, and by removing “1512-0524” in the parenthetical text at the end of the section and adding in its place “1140-0039”.

15. Section 478.40 is amended by removing “1512-0526” in the parenthetical text at the end of the section and adding in its place “1140-0041”.

16. Section 478.40a is amended by removing “1512-0526” in the parenthetical text at the end of the section and adding in its place “1140-0041”.

17. Section 478.41 is amended by removing “Chief, National Licensing Center” in the first sentence of paragraph (b) and adding in its place “Chief, Federal Firearms Licensing Center”, and by removing “National Licensing Center” in the first sentence of paragraph (c) and adding in its place “Federal Firearms Licensing Center”.

18. Section 478.44 is amended by adding the word “and” at the end of paragraph (a)(1)(iii); by removing paragraph (a)(1)(iv); by redesignating paragraph (a)(1)(v) as paragraph (a)(1)(iv); by revising newly redesignated paragraph (a)(1)(iv); by revising paragraph (a)(2); by revising the last two sentences in paragraph (b); and by removing “1512-0570” in the parenthetical text at the end of the section and adding in its place “1140-0060”, to read as follows:

§ 478.44 Original license.

(a)(1) * * *

(iv) Include the appropriate fee in the form of money order or check made payable to the “Bureau of Alcohol, Tobacco, Firearms, and Explosives”.

(2) ATF Form 7 may be obtained by contacting the ATF Distribution Center (See § 478.21).

(b) * * * The application shall include the appropriate fee in the form of a money order or check made payable to the Bureau of Alcohol, Tobacco, Firearms, and Explosives. ATF Form 7CR (Curios and Relics) may be obtained by contacting the ATF Distribution Center (See § 478.21).

* * * * *

19. Section 478.45 is revised to read as follows:

§ 478.45 Renewal of license.

If a licensee intends to continue the business or activity described on a license issued under this part during any portion of the ensuing year, the licensee shall, unless otherwise notified in writing by the Chief, Federal Firearms Licensing Center, execute and file with ATF prior to the expiration of the license an application for a license renewal, ATF Form 8 Part II, in accordance with the instructions on the form, and the required fee. If the applicant is a nonimmigrant alien, the application must include applicable documentation demonstrating that the nonimmigrant alien falls within an exception to or has obtained a waiver from the nonimmigrant alien provision (e.g., a hunting license or permit lawfully issued in the United States; waiver). The Chief, Federal Firearms Licensing Center may, in writing, require the applicant for license renewal to also file completed ATF Form 7 or ATF Form 7CR in the manner required by § 478.44. In the event the licensee does not timely file an ATF Form 8 Part II, the licensee must file an ATF Form 7 or ATF Form 7CR as required by § 478.44, and obtain the required license before continuing business or collecting activity. If an ATF Form 8 Part II is not timely received through the mails, the licensee should so notify the Chief, Federal Firearms Licensing Center.

(Approved by the Office of Management and Budget under control number 1140-0060).

20. Section 478.47 is amended by adding the word “and” at the end of paragraph (b)(4); by removing “; and” at the end of paragraph (b)(5) and adding in its place a period; by removing paragraph (b)(6); by removing “Chief, National Licensing Center” each place it appears in the section and adding in its place “Chief, Federal Firearms Licensing Center”; and by removing the parenthetical text at the end of the section.

21. Section 478.48 is amended by removing “Chief, National Licensing Center” each place it appears and adding in its place “Chief, Federal Firearms Licensing Center”.

22. Section 478.52 is amended by removing “Chief, National Licensing Center” each place it appears and adding in its place “Chief, Federal Firearms Licensing Center”, and by removing “1512-0525” in the parenthetical text at the end of the section and adding in its place “1140-0040”.

23. Section 478.53 is amended by removing “Chief, National Licensing Center” and adding in its place “Chief, Federal Firearms Licensing Center”.

24. Section 478.54 is amended by removing “Chief, National Licensing Center” and adding in its place “Chief, Federal Firearms Licensing Center”.

25. Section 478.56(b) is amended by removing “Chief, National Licensing Center” and adding in its place “Chief, Federal Firearms Licensing Center”.

26. Section 478.57(a) is amended by removing “Chief, National Licensing Center” and adding in its place “Chief, Federal Firearms Licensing Center”.

27. Section 478.60 is amended by removing “Chief, National Licensing Center” and adding in its place “Chief, Federal Firearms Licensing Center”.

28. Section 478.92 is amended by removing “1512-0550” in the parenthetical text at the end of the section and adding in its place “1140-0050”.

29. Section 478.94 is amended by removing “1512-0387” in the parenthetical text at the end of the section and adding in its place “1140-0032”.

30. Section 478.95 is amended by removing “Chief, National Licensing Center” and adding in its place “Chief, Federal Firearms Licensing Center”; by removing “Bureau of Alcohol, Tobacco and Firearms” and adding in its place “Bureau of Alcohol, Tobacco, Firearms, and Explosives”; and by removing “1512-0387” in the parenthetical text at the end of the section and adding in its place “1140-0032”.

31. Section 478.96 is amended by removing “§ 478.424” at the end of the first sentence in paragraph (b) and adding in its place “§ 478.124”, and by removing “1512-0130” in the parenthetical text at the end of the section and adding in its place “1140-0021”.

32. Section 478.102 is amended by removing “1512-0544” in the parenthetical text at the end of the section and adding in its place “1140-0045”.

33. Section 478.112 is amended by removing “1512-0017” and “1512-0019” in the parenthetical text at the end of the section and adding in their place “1140-0005” and “1140-0007”, respectively.

34. Section 478.113 is amended by removing “1512-0017” and “1512-0019” in the parenthetical text at the end of the section and adding in their place “1140-0005” and “1140-0007”, respectively.

35. Section 478.113a is amended by removing “1512-0017” and “1512-0019” in the parenthetical text at the end of the section and adding in their place “1140-0005” and “1140-0007”, respectively.

36. Section 478.114 is amended by removing “1512-0018” and “1512-0019” in the parenthetical text at the end of the section and adding in their place “1140-0006” and “1140-0007”, respectively.

37. Section 478.119 is amended by removing “1512-0017”, “1512-0018”, and “1512-0019” in the parenthetical text at the end of the section and adding in their place “1140-0005”, “1140-0006”, and “1140-0007”, respectively.

38. Section 478.120 is amended by removing “1512-0570” in the parenthetical text at the end of the section and adding in its place “1140-0060”.

39. Section 478.121 is amended by removing “1512-0129” and “1512-0387” in the parenthetical text at the end of the section and adding in their place “1140-0020”and “1140-0032”, respectively.

40. Section 478.122 is amended by removing “1512-0387” in the parenthetical text at the end of the section and adding in its place “1140-0032”.

41. Section 478.123 is amended by removing “1512-0369” in the parenthetical text at the end of the section and adding in its place “1140-0067”.

42. Section 478.124 is amended by removing “Center, 7943 Angus Court, Springfield, Virginia 22153” in paragraph (i) and adding in its place “Center (See § 478.21)”, and by revising the parenthetical text at the end of the section to read as follows:

§ 478.124 Firearms transaction record.

* * * * *

(Paragraph (c) approved by the Office of Management and Budget under control numbers 1140-0045, 1140-0020, and 1140-0060; paragraph (f) approved by the Office of Management and Budget under control number 1140-0021; all other recordkeeping approved by the Office of Management and Budget under control number 1140-0020)

43. Section 478.125 is amended by removing the eighth sentence in the introductory text of paragraph (f), and by removing “1512-0387” in the parenthetical text at the end of the section and adding in its place “1140-0032”.

44. Section 478.125a is amended by removing “1512-0387” in the parenthetical text at the end of the section and adding in its place “1140-0032”.

45. Section 478.126 is amended by removing “1512-0387” in the parenthetical text at the end of the section and adding in its place “1140-0032”.

46. Section 478.126a is amended by removing “1512-0006” in the parenthetical text at the end of the section and adding in its place “1140-0003”.

47. Section 478.127 is amended by removing “Spring Mills Office Park, 2029 Stonewall Jackson Drive, Falling Waters, West Virginia 25419” in the second sentence and adding in its place “244 Needy Road, Martinsburg, West Virginia 25405”, and by removing “Chief, National Licensing Center” and adding in its place “Chief, Federal Firearms Licensing Center”.

48. Section 478.131 is amended by removing “1512-0544” in the parenthetical text at the end of the section and adding in its place “1140-0045”.

49. Section 478.132 is amended by removing “1512-0526” in the parenthetical text at the end of the section and adding in its place “1140-0041”.

50. Section 478.133 is amended by removing “1512-0526” in the parenthetical text at the end of the section and adding in its place “1140-0041”.

51. Section 478.150 is amended by removing “1512-0544” in the parenthetical text at the end of the section and adding in its place “1140-0045”.

52. Section 478.151 is amended by adding a parenthetical text at the end of the section to read as follows:

§ 478.151 Semiautomatic rifles or shotguns for testing or experimentation.

* * * * *

(Paragraph (b) approved by the Office of Management and Budget under control number 1140-0037)

PART 479—MACHINE GUNS, DESTRUCTIVE DEVICES, AND CERTAIN OTHER FIREARMS

53. The authority citation for 27 CFR Part 479 continues to read as follows:

Authority: 26 U.S.C. 7805.

54. Section 479.21(b) is amended by removing “7943 Angus Court, Springfield, Virginia 22153” and adding in its place “7664 K Fullerton Road, Springfield, Virginia 22150”.

55. Section 479.102 is amended by removing “1512-0550” in the parenthetical text at the end of the section and adding in its place “1140-0050”.

56. Section 479.131 is amended by removing “1512-0387” in the parenthetical text at the end of the section and adding in its place “1140-0032”.

PART 555—COMMERCE IN EXPLOSIVES

57. The authority citation for 27 CFR Part 555 continues to read as follows:

Authority: 18 U.S.C. 847.

58. Section 555.21(b) is amended by removing “7943 Angus Court, Springfield, Virginia 22153” and adding in its place “7664 K Fullerton Road, Springfield, Virginia 22150”.

59. Section 555.23 is amended by removing “Center, 7943 Angus Court, Springfield, Virginia, 22153” and adding in its place “Center (See § 555.21)”.

60. Section 555.109 is amended by removing the parenthetical text at the end of the section and adding in its place “(Approved by the Office of Management and Budget under control numbers 1140-0055 and 1140-0062)”.

61. Section 555.121 is amended by removing “1512-0373” in the parenthetical text at the end of the section and adding in its place “1140-0030”.

62. Section 555.122 is amended by removing “1512-0373” in the parenthetical text at the end of the section and adding in its place “1140-0030”.

63. Section 555.123 is amended by removing “1512-0373” in the parenthetical text at the end of the section and adding in its place “1140-0030”.

64. Section 555.124 is amended by removing “1512-0373” in the parenthetical text at the end of the section and adding in its place “1140-0030”.

65. Section 555.128 is amended by removing “Spring Mills Office Park, 882 T.J. Jackson Drive, Falling Waters, West Virginia 25419” in the second sentence and adding in its place “244 Needy Road, Martinsburg, West Virginia 25405”.

66. Section 555.181 is amended by removing the parenthetical text at the end of section.

67. Section 555.184 is amended by removing “1512-0539” in the parenthetical text at the end of the section and adding in its place “1140-0042”.

68. Section 555.201 is amended by removing “1512-0536” in the parenthetical text at the end of the section and adding in its place “1140-0071”.

Dated: September 26, 2008.
Michael B. Mukasey,
Attorney General.

[FR Doc. E8-23178 Filed 10-1-08; 8:45 am]

BILLING CODE 4410-FY-P